DEPARTMENT OF THE INTERIOR

Bureau of Land Management

[CA-690-01-1610-JP-064B, C00-0927 WHA-ADR]

Temporary Motorized Vehicle Use Closure on Selected Federal Lands in San Bernardino County, CA

AGENCY: Bureau of Land Management, Interior.

ACTION: Temporary closure to motorized vehicle use on selected federal lands in Red Mountain area in San Bernardino County, California

DATES: The temporary closure was approved October 19, 2001, and is in effect.

ADDRESSES: Bureau of Land Management, Ridgecrest Field Office, 300 S. Richmond Rd, Ridgecrest, CA 93555

FOR FURTHER INFORMATION CONTACT: Hector Villalobos, BLM, Ridgecrest Field Office, 300 South Richmond Rd, Ridgecrest, CA 93555, telephone (760) 384-5400. The Red Mountain closure is posted in the Ridgecrest Field Office and at places near and/or within the area to which the closure applies. Maps identifying the affected areas are available at the Ridgecrest Field Office as well as on the Bureau of Land Management (BLM) California Web site at www.ca.blm.gov.

SUPPLEMENTARY INFORMATION: This temporary closure is implemented pursuant to title 43 Code of Federal Regulations (CFR) 8341.2(a). The closure was approved October 19, 2001 and will remain in effect until a Record of Decision is signed on the WEMO Plan, which is expected to be signed June 2003.

Exceptions to the closure include government vehicles conducting official business which shall be allowed inside the closed areas as authorized. Official business may include public service emergencies, resource monitoring/research, and management activities, and other actions authorized by BLM's Ridgecrest Field Office Manager.

Dated: October 19, 2001.
Henri Bisson,
Assistant Director for Renewable Resources and Planning.

[FR Doc. 01-26829 Filed 10-23-01; 9:44 pm]

BILLING CODE 4310-40-M